DEPARTMENT OF LABOR

Bureau of Labor Statistics

Information Collection Activities; Comment Request

AGENCY: Bureau of Labor Statistics, Department of Labor.

ACTION: Notice of information collection; request for comment.

SUMMARY: The Department of Labor, as part of its continuing effort to reduce paperwork and respondent burden, conducts a pre-clearance consultation program to provide the general public and Federal agencies with an opportunity to comment on proposed and/or continuing collections of information in accordance with the Paperwork Reduction Act of 1995. This program helps to ensure that requested data can be provided in the desired format, reporting burden (time and financial resources) is minimized, collection instruments are clearly understood, and the impact of collection requirements on respondents can be properly assessed. The Bureau of Labor Statistics (BLS) is soliciting comments concerning the proposed revision of the “Survey of Occupational Injuries and Illnesses.” A copy of the proposed information collection request (ICR) can be obtained by contacting the individual listed below in the Addresses section of this notice.

DATES: Written comments must be submitted to the office listed in the Addresses section of this notice on or before June 17, 2024.

ADDRESSES: Send comments to Nora Kincaid, BLS Clearance Officer, Division of Management Systems, Bureau of Labor Statistics, Room G225, 2 Massachusetts Avenue NE, Washington, DC 20212. Written comments also may be transmitted by email to BLS_PRA_Public@bls.gov.

FOR FURTHER INFORMATION CONTACT: Nora Kincaid, BLS Clearance Officer, 202-691-7628 (this is not a toll-free number). (See ADDRESSES section.)

SUPPLEMENTARY INFORMATION:

I. Background

Section 24(a) of the Occupational Safety and Health Act of 1970 requires the Secretary of Labor to develop and maintain an effective program of collection, compilation, and analysis of statistics on occupational injuries and illnesses. The Commissioner of Labor Statistics has been delegated the responsibility for “Furthering the purpose of the Occupational Safety and Health Act by developing and maintaining an effective program of collection, compilation, analysis and publication of occupational safety and health statistics.” The BLS fulfills this responsibility, in part, by conducting the Survey of Occupational Injuries and Illnesses in conjunction with participating State statistical agencies. The BLS Survey of Occupational Injuries and Illnesses provides the Nation's primary indicator of the progress towards achieving the goal of safer and healthier workplaces. The survey produces the overall rate of occurrence of work injuries and illnesses by industry which can be compared to prior years to produce measures of the rate of change. These data are used to assess the Nation's progress in improving the safety and health of America's work places; to prioritize scarce Federal and State resources; to guide the development of injury and illness prevention strategies; and to support Occupational Safety and Health Administration (OSHA) and State safety and health standards and research. Data are essential for evaluating the effectiveness of Federal and State programs for improving work place safety and health. For these reasons, it is necessary to provide estimates separately for participating States.

Effective with the release of estimates from the Survey of Occupational Injuries and Illnesses (SOII) in November 2023, the Bureau of Labor Statistics (BLS) introduced the publication of a new biennial case and demographic data series for cases that involve days of job transfer or restriction (DJTR). The first release of this new series covered the 2021-22 biennial reference period. This shift significantly changed the SOII news release and how publication tables are presented to provide additional data on the case circumstances and worker demographics for DJTR cases, in addition to details that have long been published for cases involving days away from work (DAFW). Biennial estimates for DJTR and DAFW are now released together. Summary industry estimates, produced annually, remain unchanged.

Starting with reference year 2023 data, the circumstances of injury and illness cases are coded using the updated Occupational Injury and Illness Classification System (OIICS), version 3. (See https://www.bls.gov/iif/definitions/occupational-injuries-and-illnesses-classification-manual.htm for more information on OIICS.) Estimates of detailed case circumstances for DJTR and DAFW using OIICS 3 will first be published in the SOII news release in November 2025, covering the 2023-24 biennial reference period.

II. Current Action

Office of Management and Budget clearance is being sought for the Survey of Occupational Injuries and Illnesses. The survey measures the overall rate of occurrence of work injuries and illnesses by industry for private industry, State governments, and local governments. For more serious injuries and illnesses with days away from work (DAFW) or with days of job transfer or restriction (DJTR), the survey provides detailed information on the injured/ill worker (age, sex, race, industry, occupation, and length of service), the time in shift, and the circumstances of the injuries and illnesses classified by standardized codes (nature of the injury/illness, part of body affected, primary and secondary sources of the injury/illness, and the event or exposure which produced the injury/illness).

The SOII is a mandatory survey that has traditionally experienced relatively high response rates compared to other establishment surveys. However, the SOII response rate has been trending lower for several years and was significantly impacted by the pandemic. BLS will conduct a one-year test with a small sample of survey participants to evaluate the effectiveness of an additional respondent contact for improving response rates.

III. Desired Focus of Comments

The Bureau of Labor Statistics is particularly interested in comments that:

• Evaluate whether the proposed collection of information is necessary for the proper performance of the functions of the agency, including whether the information will have practical utility.

• Evaluate the accuracy of the agency's estimate of the burden of the proposed collection of information, including the validity of the methodology and assumptions used.

• Enhance the quality, utility, and clarity of the information to be collected.

• Minimize the burden of the collection of information on those who are to respond, including through the use of appropriate automated, electronic, mechanical, or other technological collection techniques or other forms of information technology, e.g., permitting electronic submissions of responses.

Title of Collection: Survey of Occupational Injuries and Illnesses.

OMB Number: 1220-0045.

Type of Review: Revision of a currently approved collection.

Affected Public: Businesses or other for-profits; not-for-profit institutions; farms; State, local or Tribal governments.

BLS 9300 Respondent Burden Estimates
Form | Total respondents | Frequency | Total responses | Average time per response (minutes) | Estimated burden hours
Total Recording Burden | 85,800 | Annually | 85,800 | 71.049 | 101,600
Total Reporting Burden | 228,200 | Annually | 228,200 | 29.791 | 113,304
Totals | 228,200 | Annually | 228,200 |  | 214,904

Comments submitted in response to this notice will be summarized and/or included in the request for Office of Management and Budget approval of the information collection request; they also will become a matter of public record.

Signed at Washington, DC, this 10th day of April 2024.
Eric Molina,
Chief, Division of Management Systems, Branch of Policy Analysis.

[FR Doc. 2024-08088 Filed 4-16-24; 8:45 am]

BILLING CODE 4510-24-P